DEPARTMENT OF DEFENSE

Department of the Army, Corps of Engineers

Notice of Meeting for the Mississippi River Commission

AGENCY: Corps of Engineers, Department of the Army, DoD.

ACTION: Notice.

SUMMARY: The Mississippi River Commission will hold a meeting at the below location, date, and time. Additional details for the public meetings are included in the Supplementary Information section of this notice.

DATES: Beginning at 8 a.m., March 2, 2026, and adjourning at 5 p.m., March 2, 2026, Vicksburg, Mississippi.

ADDRESSES: The location for the meeting is the offices of the Mississippi River Commission at 1400 Walnut Street, Vicksburg, Mississippi 39180.

FOR FURTHER INFORMATION CONTACT: Mr. Drew Smith, Acting Executive Director, Mississippi River Commission at 601-634-7023, or Ms. Edie Whittington Mississippi River Commission, Administrative Officer at 601-634-5768 or email `edie.whittington@usace.army.mil'. Also see: https://www.mvd.usace.army.mil/About/Mississippi-River-Commission-MRC/Public-Meeting-Schedule/.

SUPPLEMENTARY INFORMATION:

Time and Date: 8:00 a.m., March 2, 2026.

Place: Mississippi River Commission Building, 1400 Walnut Street, Vicksburg, Mississippi 39180.

Status: Open to the public for observation, but not for participation.

Matters to be Considered: Reports from the Commission staff on: (1) State of the River, (1)(a) Weather, (1)(b) River/Reservoir Status, (1)(c) Spring Flood Assessment; (2) Programs Update; (3) Yazoo Backwater Update; (4) Arkabutla Dam Update; (5) Channel Improvement Update; and, (6) 12-ft Navigation Channel.

Kimberly A. Peeples,
Major General, USA, President, Mississippi River Commission.

[FR Doc. 2026-03642 Filed 2-23-26; 8:45 am]

BILLING CODE 3720-58-P